DEPARTMENT OF HOUSING AND URBAN DEVELOPMENT

[Docket No. FR-5828-N-42]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Army: Ms. Veronica Rines, Office of the Assistant Chief of Staff for Installation Management, Department of Army, Room 5A128, 600 Army Pentagon, Washington, DC 20310, (571) 256-8145; Energy: Mr. David Steinau, Department of Energy, Office of Property Management, OECM MA-50, 4B122, 1000 Independence Ave. SW., Washington, DC 20585 (202) 287-1503; GSA: Mr. Flavio Peres, General Services Administration, Office of Real Property Utilization and Disposal, 1800 F Street NW., Room 7040, Washington, DC 20405, (202) 501-0084; Interior: Mr. Michael Wright, Acquisition & Property Management, Department of the Interior, 3960 N. 56th Ave. #104, Hollywood, FL. 33021; (443) 223-4639; Navy: Mr. Steve Matteo, Department of the Navy, Asset Management; Division, Naval Facilities Engineering Command, Washington Navy Yard, 1330 Patterson Ave. SW., Suite 1000, Washington, DC 20374; (202) 685-9426; (These are not toll-free numbers).

Dated: October 7, 2015.
Brian P. Fitzmaurice,
Director, Division of Community Assistance, Office of Special Needs Assistance Programs.

TITLE V, FEDERAL SURPLUS PROPERTY PROGRAM FEDERAL REGISTER REPORT FOR 10/16/2015

Suitable/Available Properties

Building

Michigan

Former Newport Nike Missile

Site D-58

800 East Newport Road

Newport MI 48166

Landholding Agency: GSA

Property Number: 54201530010

Status: Excess

GSA Number: 1-D-MI-0536

Directions: Disposal Agency: GSA; Landholding Agency: COE

Comments: 70+ yrs. old; 3 buildings totaling 11,447 sq. ft.; sits on 36.35 acres; industrial; training site; extremely poor/hazardous condition; remediation required; contact GSA for more information.

North Carolina

Tract 01-160

115 British Lakes

Greensboro NC 27410

Landholding Agency: Interior

Property Number: 61201530027

Status: Unutilized

Comments: off-site removal only; no future agency need; 1,271 sq. ft.; residential: very poor conditions; lead & aspects; contact interior for more information.

4 Buildings

Green Acres Lane

Greensboro NC 27410

Landholding Agency: Interior

Property Number: 61201530028

Status: Unutilized

Directions: tract 01-151 (1,002 sq. ft.), Tract 01-152 (1,612 sq. ft.), Tract 01-158 (1,822 sq. ft.), Tract 01-163A (1,318 sq. ft.)

Comments: off-site removal only; no future agency need residential; leaking underground heating tanks; lead & asbestos; contact Interior for more information on a specific property.

Trace 01-163B

3609 Battleground Road

Greensboro NC 27410

Landholding Agency: Interior

Property Number: 61201530029

Status: Unutilized

Comments: off-site removal only; no future agency need; 1,020 sq. ft.; residential; lead & asbestos; leaking underground heating tanks; contact Interior for more information.

Wisconsin

Canthook Lake—House/Storage

Canthook Lake

Iron River WI

Landholding Agency: GSA

Property Number: 54201530009

Status: Excess

GSA Number: 1-A-WI-0624-AA

Directions: Disposal Agency: GSA; Land Holding Agency: Agriculture

Comments: off-site removal only; 70+ yrs. old; 4,004 sq. ft.; residential; average condition; contact GSA for more information.

Land

California

FAA Sacramento Middle Maker

Site

1354 Palomar Circle

Sacramento CA 95831

Landholding Agency: GSA

Property Number: 54201530007

Status: Surplus

GSA Number: 9-U-CA-1707-AA

Directions: Disposal Agency: GSA; Landholding Agency: FAA

Comments: 0.29 Acres; contact GSA for more information.

Guam

Andersen Administrative Annex (Andy South)

Marine Corps Dr. & Turner Street

Yigo GU

Landholding Agency: Navy

Property Number: 77201530027

Status: Unutilized

Comments: 43,560 sq. ft. portion of Anderson Administrative Annex is occupied by the Guam Fire Dept. contact Navy for more information.

Unsuitable Properties

Building

Alaska

NMFS Combine Building

Priblof Island

St. Paul AK 99660

Landholding Agency: GSA

Property Number: 54201530008

Status: Unutilized

GSA Number: 9-C-AK-46622-S

Directions: Disposal Agency: GSA; Landholding Agency: NOAA

Comments: property is inaccessible because it is located on a (small) off-shore island; property located within floodway which has not been correct or contained only accessible by sea plane.

Reasons: Floodway

New York

Building 1438

West Point; Range Rd. (Range 8)

West Point NY 10996

Landholding Agency: Army

Property Number: 21201530095

Status: Unutilized

Comments: RE-DETERMINATION: structurally unsound; attempt of removal will most likely result in collapse of bldg.; clear threat to personal physical safety.

Reasons: Extensive deterioration

5 Buildings

Brookhaven National Laboratory

Upton NY 11973

Landholding Agency: Energy

Property Number: 41201530007

Status: Excess

Directions: Building 562, 950, 954, 180, 355

Comments: public access denied and no alternative method to gain access without compromising National Security.

Reasons: Secured Area

Oregon

JC, Trailer #12 Bldg. ID 1202

59868 East Hwy. 224

Estacada OR 97023

Landholding Agency: Agriculture

Property Number: 15201530049

Status: Underutilized

Directions: 060610 1617 Timber Lake Job Corps CCC

Comments: documented deficiencies; severe structural damages; building collapsing; represents a clear threat to personal physical safety.

Reasons: Extensive deterioration

JC, Trailer #19 Bldg. ID 1195

59868 East Hwy. 224

Estacada OR 97023

Landholding Agency: Agriculture

Property Number: 15201530050

Status: Underutilized

Directions: 060610 1617 Timber Lake Job Corps CCC

Comments: documented deficiencies: severe structural damages; building collapsing; represents a clear threat to personal physical safety.

Reasons: Extensive deterioration

JC, Trailer #11 Bldg. ID 1191

59868 East Hwy. 224

Estacada OR 97023

Landholding Agency: Agriculture

Property Number: 15201530052

Status: Underutilized

Directions: 060610 1617 Timber Lake Job Corps CCC

Comments: documented deficiencies: severe structural damages; building collapsing; represents a clear threat to personal physical safety.

Reasons: Extensive deterioration

JC, Trailer #10 Bldg. ID 1203

59868 East Hwy. 224

Estacada OR 97023

Landholding Agency: Agriculture

Property Number: 15201530053

Status: Underutilized

Directions: 060610 1617 Timber Lake Job Corps CCC

Comments: documented deficiencies: severe structural damage; building collapsing; represents a clear threat to personal physical safety.

Reasons: Extensive deterioration

JC, Trailer #29 Bldg. ID 1198

59868 East Hwy.

Estacada OR 97023

Landholding Agency: Agriculture

Property Number: 15201530054

Status: Underutilized

Directions: 060610 1617 Timber Lake Job Corps CCC

Comments: documented deficiencies: severe structural damage; building collapsing; represents a clear threat to personal physical safety.

Reasons: Extensive deterioration

JC, Trailer #25 Bldg. ID 1200

59868 East Hwy. 224

Estacada OR 97023

Landholding Agency: Agriculture

Property Number: 15201530055

Status: Underutilized

Directions: 060610 1617 Timber Lake Job Corps CCC

Comments: documented deficiencies: severe structural damage; building collapsing; represents a clear threat to personal physical safety.

Reasons: Extensive deterioration

JC, Trailer #22 Bldg. ID 1197

59868 East Hwy. 224

Estacada OR 97023

Landholding Agency: Agriculture

Property Number: 15201530056

Status: Underutilized

Directions: 060610 1617 Timber Lake Job Corps CCC

Comments: documented deficiencies: severe structural damage; building collapsing; represents a clear threat to personal physical safety.

Reasons: Extensive deterioration

JC, Trailer #26 Bldg. ID 1199

59868 East Hwy. 224

Estacada OR 97023

Landholding Agency: Agriculture

Property Number: 15201530057

Status: Underutilized

Directions: 060610 1617 Timber Lake Job Corps CCC

Comments: documented deficiencies: severe structural damage; building collapsing; represents a clear threat to personal physical safety.

Reasons: Extensive deterioration

Virginia

CEP-41, Destroyer Squadron

1520 Gilbert Street

Norfolk VA 23511

Landholding Agency: Navy

Property Number: 77201530028

Status: Excess

Comments: public access denied and no alternative method to gain access without compromising national security.

Reasons: Secured Area

[FR Doc. 2015-26014 Filed 10-15-15; 8:45 am]

BILLING CODE 4210-67-P